DEPARTMENT OF COMMERCE

International Trade Administration

[A-570-815]

Sulfanilic Acid From the People's Republic of China: Final Results of Antidumping Duty Administrative Review

AGENCY: Import Administration, International Trade Administration, Department of Commerce.

ACTION: Notice of final results of antidumping duty administrative review.

SUMMARY: On September 14, 2000, the Department of Commerce (the Department) published the preliminary results of its administrative review of the antidumping duty order on sulfanilic acid from the People's Republic of China. The review covers the period August 1, 1998 to July 31, 1999, and two firms: Zhenxing Chemical Industry Company (Zhenxing) and Yude Chemical Industry Company (Yude). The final results of this review indicate that the two responding parties, Zhenxing and Yude, failed to cooperate by not acting to the best of their ability in responding to our requests for information. Consequently, we continue to find the use of adverse facts available warranted, and have used the single margin “PRC rate” as adverse facts available with respect to Zhenxing and Yude, which is listed below in the “Final Results of the Review” section of this notice.

EFFECTIVE DATE: March 21, 2001.

FOR FURTHER INFORMATION CONTACT: Sean Carey or Samantha Denenberg, Office of AD/CVD Enforcement VII, Group III, Import Administration, International Trade Administration, U.S. Department of Commerce, 14th Street and Constitution Avenue, NW., Washington, DC 20230; telephone (202) 482-3964 or (202) 482-1386, respectively.

SUPPLEMENTARY INFORMATION:

Applicable Statute

Unless otherwise indicated, all citations to the statute are references to the provisions of the Tariff Act of 1930 (the Act), as amended by the Uruguay Round Agreements Act (URAA) effective January 1, 1995. In addition, unless otherwise indicated, all citations to the Department's regulations are codified at 19 CFR part 351 (2000).

Background

On September 14, 2000, the Department published the preliminary results of the administrative review of the antidumping duty order on sulfanilic acid. See Sulfanilic Acid from the People's Republic of China; Preliminary Results of Antidumping Duty Administrative Review, 65 FR 55508 (September 14, 2000).

On September 18, 2000, the Department issued the verification report as a result of our on-site inspection of relevant sales and financial records. Zhenxing, Yude, and PHT International (hereafter, respondents) submitted comments on the verification report on September 28, 2000, and all interested parties filed case briefs with the Department on October 16, 2000. In a letter to respondents dated November 7, 2000, the Department determined that the respondents' comments on the verification report and their case brief contained certain untimely filed new factual information and argument based upon that information, and requested that they correct and re-file these submissions. On November 9, 2000, respondents filed a request to the Department to consider retaining some of the information contained in the aforementioned submissions because they concerned events that transpired at verification that they claimed disputed certain statements made in the verification report. The Department granted this request, and on November 15, 2000, issued a revised corrections list to respondents and a schedule for submission of respondents' corrected case briefs and rebuttal briefs from all interested parties. Respondents submitted their corrected comments on the verification report and their revised case brief on November 20, 2000, in accordance with the Department's decision in this matter. All interested parties submitted rebuttal briefs to the Department on November 27, 2000.

Respondents submitted publicly available information to value factors of production on October 4, 2000. In addition, they filed a timely request for a hearing on October 17, 2000, and a hearing was held at the Department on December 13, 2000. The hearing was attended by both respondents and petitioner. Respondents also requested in a letter to the Department dated November 1, 2000, the right to revise their case brief in order to address the impact of the new law, H.R. 4461. The Department addressed this request in its aforementioned November 15, 2000, letter to respondents.

On January 4, 2001, the Department published a notice to extend the time limit for the final results of review from January 12, 2001 to March 13, 2001. See Sulfanilic Acid from the People's Republic of China: Extension of Time Limit for Final Results of Antidumping Duty, 66 FR 1952 (January 10, 2001).

The Department issued a preliminary determination to treat Zhenxing and Yude as a single producer for the 1998/1999 administrative review on January 9, 2001, and requested comments from interested parties. See Department's Collapsing Memorandum dated January 9, 2001. On January 22, 2001, respondents timely filed comments to this memorandum.

On December 22, 2000, the Department requested the U.S. Customs Service (Customs) to release to us certain documents that it had in its possession concerning possible sales of sulfanilic acid from Zhenxing to unaffiliated U.S. importers. In response to this request, Customs released to the Department on January 26, 2001, information relating to the possible sales. On February 2, 2001, the Department placed this information on the record of this review via a letter to interested parties requesting comments on the documents obtained by Customs. Respondents requested an extension of the deadline for the filing of comments on these Customs documents in a February 14, 2001, letter submitted to the Department. On February 15, 2001, the Department denied this extension in a letter issued to respondents. All interested parties filed their comments and rebuttals to this Customs information on February 16, 2001 and February 21, 2001, respectively. On February 20, 2001, petitioner (Nation Ford Chemical Company), submitted a letter to the Department claiming that respondents' comments to this Customs information erroneously included new factual information. The Department addressed this issue in a memorandum to the file dated February 22, 2001, by clarifying that the Department is accepting respondents' new factual information, and by granting petitioner 10 days from the date of its submission to rebut this information with any factual information of its own. Accordingly, petitioner submitted rebuttal factual information on February 26, 2001.

Scope of the Antidumping Duty Order

Imports covered by this review are all grades of sulfanilic acid, which include technical (or crude) sulfanilic acid, refined (or purified) sulfanilic acid and sodium salt of sulfanilic acid.

Sulfanilic acid is a synthetic organic chemical produced from the direct sulfonation of aniline with sulfuric acid. Sulfanilic acid is used as a raw material in the production of optical brighteners, food colors, specialty dyes, and concrete additives. The principal differences between the grades are the undesirable quantities of residual aniline and alkali insoluble materials present in the sulfanilic acid. All grades are available as dry, free flowing powders.

Technical sulfanilic acid, classifiable under the subheading 2921.42.24 of the Harmonized Tariff Schedule (HTS), contains 96 percent minimum sulfanilic acid, 1.0 percent maximum aniline, and 1.0 percent maximum alkali insoluble materials. Refined sulfanilic acid, also classifiable under the subheading 2921.42.24 of the HTS, contains 98 percent minimum sulfanilic acid, 0.5 percent maximum aniline and 0.25 percent maximum alkali insoluble materials.

Sodium salt (sodium sulfanilate), classifiable under the HTS subheading 2921.42.79, is a powder, granular or crystalline material which contains 75 percent minimum equivalent sulfanilic acid, 0.5 percent maximum aniline based on the equivalent sulfanilic acid content, and 0.25 percent maximum alkali insoluble materials based on the equivalent sulfanilic acid content.

Although the HTS subheadings are provided for convenience and customs purposes, our written description of the scope of this proceeding is dispositive.

Verification

As provided in section 782(i) of the Tariff Act, we verified information provided by the respondents using standard verification procedures, including on-site inspection of the facilities and the examination of relevant sales and financial records. The results of our verification are discussed in the verification report. Specific arguments relating to the conduct of the verification are addressed in the Department's Memorandum on Respondents' Comments on the Verification and Verification Report dated March 13, 2001. Other arguments concerning the content of the verification report are addressed in the “Verification Report” section of the “Issues and Decision Memorandum” (Decision Memorandum) from Joseph A. Spetrini, Deputy Assistant Secretary, Group III, Import Administration, to Bernard T. Carreau, fulfilling the duties of Assistant Secretary for Import Administration, dated concurrent with this notice. A public version of these memoranda is on file in the Central Records Unit (CRU), room B-099 of the Main Commerce Building.

Request for Revocation

In conjunction with respondents' request for a review submitted on August 31, 1999, Zhenxing and Yude also requested revocation of the antidumping duty order on sulfanilic acid from China with respect to their sales of this merchandise. For purposes of these final results, we continue to find that they are not eligible for partial revocation from the order on sulfanilic acid under 19 CFR 351.222(b)(1)(i), as outlined in our analysis published in the preliminary results.

Separate Rates

To establish whether a company is sufficiently independent to be entitled to a separate, company-specific rate, the Department analyzes each exporting entity in a non-market economy (NME) country under the test established in the Final Determination of Sales at Less Than Fair Value: Sparklers from the People's Republic of China, 56 FR 20588 (May 6, 1991) (Sparklers), as amplified by the Final Determination of Sales at Less Than Fair Value: Silicon Carbide from the People's Republic of China, 59 FR 22585 (May 2, 1994) (Silicon Carbide). As a result of our determination that the responses are not reliable, however (see below), the Department is not granting separate rates to those companies and is assigning the rate of 85.20 as the PRC country-wide rate, which also will apply to Zhenxing and Yude.

Analysis of Comments Received

As noted above, specific issues and comments submitted by interested parties pertaining to the conduct of the verification, and in response to certain Customs documents placed on the record of this review by the Department, are addressed, respectively, in the Department's Memorandum on Respondent's Comments on the Verification and Verification Report, and in Memorandum on the Department's Findings on Certain Customs Documents. All other issues and comments raised in the case and rebuttal briefs, including interested parties' responses to the Department's Collapsing Memorandum, are addressed in the Decision Memorandum, which is hereby adopted by this notice. A list of issues which parties have raised and to which we have responded, all of which are in the Decision Memorandum, is attached to this notice as Appendix I. Parties can find a complete discussion of all issues raised in this review and the corresponding recommendations in this public memorandum which is on file in the Department's CRU. In addition, a complete version of the Decision Memorandum can be accessed directly on the internet at http://ia.ita.doc.gov/frn/frnhome.htm.

Use of Facts Available

For a discussion of our application of the use of the facts otherwise available, see the “Use of Facts Otherwise Available” section of the preliminary results and the “Facts Available” section of the Decision Memorandum, both of which are on file in the CRU and also available at the Web address shown above.

Final Results of Review

The Department has not altered its determination from the preliminary results to use the rate of 85.20 percent as the adverse facts available for the period August 1, 1998 through July 31, 1999 for all firms which have not demonstrated that they are entitled to separate rates, including Zhenxing and Yude.

The Department shall determine, and Customs shall assess, antidumping duties on all appropriate entries. We will direct Customs to assess the resulting percentage margin against the entered Customs values for the subject merchandise on each entry of that importer under the relevant order during the review period.

Cash Deposit Requirements

The following deposit requirements will be effective upon publication of this notice of final results of administrative review for all shipments of sulfanilic acid from the PRC entered, or withdrawn from warehouse, for consumption on or after the publication date, as provided for by section 751(a)(2)(c) of the Act: the cash deposit rate for all PRC exporters and non-PRC exporters of subject merchandise from the PRC will be 85.20 percent (i.e., the PRC country-wide rate). These deposit requirements shall remain in effect until publication of the final results of the next administrative review.

This notice also serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

This notice serves as a reminder to parties subject to administrative protective order (APO) of their responsibility concerning the disposition of proprietary information disclosed under APO in accordance with 19 CFR 351.305. Timely written notification of return/destruction of APO materials or conversion to judicial protective order is hereby requested. Failure to comply with the regulations and the terms of an APO is a sanctionable violation.

This administrative review is issued and published in accordance with sections 751(a)(1) and 777(i)(1) of the Act (19 U.S.C. 1675(a)(1) and 19 U.S.C. 1677f(i)(1)).

Dated: March 13, 2001.
Timothy J. Hauser,
Acting Under Secretary for International Trade.

Appendix I: Issues Discussed in Decision Memorandum

(See web address http://ia.ita.doc.gov/frn/frnhome.htm)

Comments and Responses

1. Facts Available

2. Use of Factual Information from the U.S. Customs Service

3. Verification Outline and Procedure

4. Verification Report/Alleged Untrue Statements

5. Verification Report/Use of the Term “Unreported” Sales

6. Verification Report/Inability to Reconcile Sales

7. Verification Report/Issuing of Verification Report

8. Verification Comments are Untimely Factual Information

9. Knowledge Test

10. Collapsing

11. Surrogate Values

[FR Doc. 01-6912 Filed 3-20-01; 8:45 am]

BILLING CODE 3510-DS-P